DEPARTMENT OF HEALTH AND HUMAN SERVICES (HHS)

Centers for Medicare & Medicaid Services

Notice of Hearing: Reconsideration of Disapproval of Virginia Title XXI State Plan Amendment (SPA) No. 6

AGENCY: Centers for Medicare & Medicaid Services (CMS), HHS.

ACTION: Notice of Hearing.

SUMMARY: This notice announces an administrative hearing to be held on September 4, 2007, at 150 S. Independence Mall West, Suite 216, Conference Room #241, Pennsylvania Room, The Public Ledger Building, Philadelphia, PA 19106-3499, to reconsider CMS' decision to disapprove Virginia's title XXI SPA No. 6.

Closing Date: Requests to participate in the hearing as a party must be received by the presiding officer by (15 days after publication).

FOR FURTHER INFORMATION CONTACT: Kathleen Scully-Hayes, Presiding Officer, CMS, Lord Baltimore Drive, Mail Stop LB-23-20, Baltimore, Maryland 21244, Telephone: (410) 786-2055.

SUPPLEMENTARY INFORMATION: This notice announces an administrative hearing to reconsider CMS' decision to disapprove Virginia's title XXI SPA No. 6, which was submitted on June 29, 2004. This SPA was disapproved on April 20, 2007.

Under this SPA, the State requested the addition of new school-based health services to the State Children's Health Insurance Program (SCHIP) Family Access to Medical Insurance Security (FAMIS) benefit package.

The amendment was disapproved because CMS found that the amendment violated the statute for reasons set forth in the disapproval letter.

The following issues are to be decided at the hearing:

(1) Whether Virginia provided all information necessary to establish that the proposed SPA, in the context of its State child health plan, conformed to all requirements of the SCHIP statute and implementing regulations, including:

(a) Information on the exact nature of the services to be covered; whether those services are within the definition of child health assistance at section 2110(a) of the Social Security Act (Act);

(b) Information on proposed provider qualifications necessary to ensure the quality and appropriateness of care pursuant to section 2102(a)(7) of the Act and ensure that services are provided in an effective manner pursuant to section 2101(a) of the Act, and;

(c) Information on the budgetary impact necessary to ensure that services are provided in an effective and efficient manner.

(2) In the absence of such information, whether a disapproval was warranted when 950 days had passed after CMS had requested that information.

The Commonwealth of Virginia's title XXI SPA No. 6 was submitted to the CMS on June 29, 2004, with a requested retroactive effective date of August 3, 2003. This amendment requested the addition of new school-based health services to the State's SCHIP FAMIS benefit package.

A request for additional information (RAI) was submitted to the State on August 18, 2004, which stopped the 90-day review period. The RAI included questions concerning the nature of the proposed services, the qualifications of the providers, and the budgetary impact of the amendment.

To date, the State has not responded to the request for additional information.

Section 1116 of the Act and Federal regulations at 42 CFR part 430, Subpart D, and section 457.203 establish Department procedures that provide an administrative hearing for reconsideration of a disapproval of a State plan or plan amendment. CMS is required to publish a copy of the notice to a State Medicaid agency that informs the agency of the time and place of the hearing, and the issues to be considered. If we subsequently notify the agency of additional issues that will be considered at the hearing, we will also publish that notice pursuant to 42 CFR 430.74(a).

Any individual or group that wants to participate in the hearing as a party must petition the presiding officer within 15 days after publication of this notice, in accordance with the requirements contained at 42 CFR 430.76(b)(2). Any interested person or organization that wants to participate as amicus curiae must petition the presiding officer before the hearing begins in accordance with the requirements contained at 42 CFR 430.76(c). A hearing may be rescheduled by written agreement between CMS and a State pursuant to 42 CFR 430.72(a).

The notice to Virginia announcing an administrative hearing to reconsider the disapproval of its SPA reads as follows:

Mr. Brian McCormick,

Department of Medical Assistance Services, Commonwealth of Virginia, 600 East Broad Street, Suite 1300, Richmond, VA 23219.

Dear Mr. McCormick: I am responding to your request for reconsideration of the decision to disapprove Virginia's title XXI State plan amendment (SPA) No. 6, which was submitted on June 29, 2004, and was disapproved on April 20, 2007.

Under this SPA, the State requested the addition of new school-based health services to the State Children's Health Insurance Program (SCHIP) Family Access to Medical Insurance Security (FAMIS) benefit package. The amendment was disapproved because the Centers for Medicare & Medicaid Services (CMS) was not certain if the amendment was in compliance with section 2106(c) of the Social Security Act (the Act) because the State did not respond to a request for additional information dated August 18, 2004. In the absence of a response, the SPA was disapproved because there was insufficient information to make the necessary determination.

The following issues are to be decided at the hearing:

(1) Whether Virginia provided all information necessary to establish that the proposed SPA, in the context of its State child health plan, conformed to all requirements of the SCHIP statute and implementing regulations, including:

(a) Information on the exact nature of the services to be covered; whether those services are within the definition of child health assistance at section 2110(a) of the Act;

(b) Information on proposed provider qualifications necessary to ensure the quality and appropriateness of care pursuant to section 2102(a)(7) of the Act and ensure that services are provided in an effective manner pursuant to section 2101(a) of the Act, and;

(c) Information on the budgetary impact necessary to ensure that services are provided in an effective and efficient manner.

(2) In the absence of such information, whether a disapproval was warranted when 950 days had passed after CMS had requested that information.

The Commonwealth of Virginia's title XXI SPA No. 6 was submitted to CMS on June 29, 2004, with a requested retroactive effective date of August 3, 2003. This amendment requested the addition of new school-based health services to the State's SCHIP FAMIS benefit package.

A request for additional information was submitted to the State on August 18, 2004, which stopped the 90-day review period. The request for information included questions concerning the nature of the proposed services, the qualifications of the providers, and the budgetary impact of the amendment.

To date, the State has not responded to this request for information.

I am scheduling a hearing on your request for reconsideration to be held on September 4, 2007, at 150 S. Independence Mall West, Suite 216, Conference Room #241 (Pennsylvania Room), The Public Ledger Building, Philadelphia, PA 19106-3499, to reconsider the decision to disapprove SPA No. 6. If this date is not acceptable, we would be glad to set another date that is mutually agreeable to the parties. The hearing will be governed by the procedures prescribed by Federal regulations at 42 CFR Part 430, Subpart D, and section 457.203.

I am designating Ms. Kathleen Scully-Hayes as the presiding officer. If these arrangements present any problems, please contact the presiding officer at (410) 786-2055. In order to facilitate any communication which may be necessary between the parties to the hearing, please notify the presiding officer to indicate acceptability of the hearing date that has been scheduled and provide names of the individuals who will represent the State at the hearing.

Sincerely,

Leslie V. Norwalk, Esq.,

Acting Administrator.

Section 1116 of the Social Security Act (42 U.S.C. section 1316); 42 CFR 430.18)

(Catalog of Federal Domestic Assistance program No. 13.714, Medicaid Assistance Program.)

Dated: July 20, 2007.
Leslie V. Norwalk,
Acting Administrator, Centers for Medicare & Medicaid Services.

[FR Doc. E7-14607 Filed 7-26-07; 8:45 am]

BILLING CODE 4120-01-P